DEPARTMENT OF TRANSPORTATION

Federal Aviation Administration

Commercial Routes for the Grand Canyon National Park Special Flight Rules Area

AGENCY: Federal Aviation Administration, DOT.

ACTION: Notice of availability; extension of comment period.

SUMMARY: This notice extends the comment period on a notice of availability published December 13, 2000, (65 FR 78072) on commercial routes for the Grand Canyon National Park (GCNP) Special Flight Rules Area (SFRA). The commercial routes were not published in the Federal Register because they are on very large and very detailed charts, but were available from the FAA by request. The modifications in the routes are related to safety concerns identified by air tour operators and evaluated by the Federal Aviation Administration (FAA). With this notice, the FAA extends the comment period on the modifications of these routes, until January 26, 2001, so that interested persons who were unable to comment on the routes due to the holiday season may do so.

DATES: Comments must be received on or before January 26, 2001.

ADDRESSES: Comments on the proposed commercial air tour routes may be delivered or mailed, in duplicate to: Federal Aviation Administration, Attention: Gary Davis, Air Transportation Division, Flight Standards Service, AFS-201, Rm 831, 800 Independence Avenue SW., Washington, DC 20591. Comments also may be faxed to Mr. Davis at 202-267-5229. Comments may be examined at the above address between 9 a.m. and 4 p.m. weekdays, except Federal holidays.

FOR FURTHER INFORMATION CONTACT: Howard Nesbitt, Special Assistant for National Parks, Flight Standards Service, 800 Independence Avenue SW., Washington, DC 20591, Telephone (202) 493-4981.

SUPPLEMENTARY INFORMATION: The FAA did not publish the commercial routes in the original notice of availability in the Federal Register because they are on very large and very detailed charts that would not publish well in the Federal Register. You may obtain a copy of the commercial routes by contacting Denise Cashmere at (202) 267-3717, by faxing a request to (202) 267-5229, or by sending a request in writing to the Federal Aviation Administration, Air Transportation Division, AFS-200, 800 Independence Avenue SW., Washington, DC 20591. You may comment on the suggested route modifications as you desire, but you must identify that you are commenting on the commercial routes for Grand Canyon National Park. The FAA will consider all comments received on or before January 26, 2001. The FAA will consider late-filed comments to the extent practicable.

History

On April 4, 2000, the Federal Aviation Administration published two final rules, the Modification of the Dimensions of the Grand Canyon National Park Special Flight Rules Area and Flight Free Zones (Air Space Modification), and the Commercial Air Tour Limitation in the Grand Canyon National Park Special Flight Rules Area (Commercial Air Tour Limitation). See 65 FR 17736; 65 FR 17708; April 4, 2000. The FAA also simultaneously published a notice of availability of Commercial Routes for the Grand Canyon National Park (Routes Notice). See 65 FR 17698, April 4, 2000. The Commercial Air Tour Limitations final rule became effective on May 4, 2000. The Air Space Modification final rule and the routes set forth in the Routes Notice were scheduled to become effective December 1, 2000. The effective date of the Air Space Modification final rule and the new routes was extended to provide the air tour operators ample opportunity to train on the new route system during the non-tour season. The Final Supplemental Environmental Assessment for Special Flight Rules in the Vicinity of Grand Canyon National Park (SEA) was completed on February 22, 2000, and the Finding of No Significant Impact was issued on February 25, 2000.

On May 8, 2000, The United States Air Tour Association (USATA) and seven air tour operators (hereinafter collectively referred to as the Air Tour Providers) filed a petition for review of the two final rules before the United States Court of Appeals for the District of Columbia Circuit. The FAA, the Department of Transportation, the Department of Interior, the National Park Service (NPS) and various federal officials were named as respondents in this action. On May 30, 2000, the Air Tour Providers filed a motion for stay pending review before the Court of Appeals. The federal respondents in this case filed a motion for summary denial on grounds that petitioners had not exhausted their administrative remedies. The Court granted the federal respondents summary denial on July 19, 2000. The Grand Canyon Trust, the National Parks and Conservation Association, the Sierra Club, the Wilderness Society, Friends of the Grand Canyon and Grand Canyon River Guides, Inc. (hereinafter will be collectively referred to as The Trust) filed a petition for review of the same rules on May 22, 2000. The Court, by motion of the federal respondents, consolidated that case with that of the Air Tour Providers. The Hualapai Indian Tribe of Arizona filed a motion to intervene in the Air Tour Providers petition for review on June 23, 2000. The Court granted that motion on July 19, 2000.

On July 31, 2000, the Air Tour Providers filed a motion for stay before the FAA. Both the Hualapai Indian Tribe and the Trust filed oppositions to the Air Tour Providers' stay motion. On October 11, 2000, (65 FR 60352) the FAA published a disposition of the stay request, denying the stay. On October 25, 2000, the Air Tour Providers filed a Motion for Stay and Emergency Relief Pending Review of an Agency Order with the Court of Appeals. The federal respondents filed their Opposition to Petitioner's Motion for Stay Pending Review and Notification of Administrative Stay of Route and Airspace Rules on November 2, 2000. The FAA then issued an administrative stay of the routes and airspace until December 28, 2000, so that it could further investigate some new safety allegations raised by the Air Tour Providers during the course of litigation (65 FR 69846 and 65 FR 69848; November 20, 2000). On December 28, 2000, the FAA delayed implementation of changes in the airspace for GCNP SFRA until April 1, 2001, pending resolution of safety issues in the east end of GCNP. A companion document delayed implementation of the new route structure also until April 1, 2001. On December 13, 2000, the FAA published a new Notice of Availability to the Commercial Routes in the Grand Canyon National Park Special Flight Rules Area suggesting some route modifications on the east end to address the concerns raised by the air tour operators (65 FR 78072). The comment period to this Notice expires on January 12, 2001.

Discussion

In response to the Notice of Availability published December 13, 2000, the FAA has received a request from the United States Air Tour Association (USATA) to extend the commend period for 30-60 days. USATA states that “air tour providers are currently reviewing the proposed route structure and early indications from them are that they still have some significant and substantial concerns with the new routes.” However, USATA states that “due to the inevitable disruptions due to the holidays, vacations and the inability of the air tour operators to yet be able to work closely with the Flight Standards District Office in Las Vegas and actually fly the proposed routes, a full, fair, complete and objective evaluation simply is not possible by the January 12, 2001 deadline.”

The FAA is very interested in receiving the air tour operators' comments to the Notice of Availability and welcomes the operators' interest in aviation safety. Thus, the FAA is extending the comment period to the Notice of Availability until January 26, 2001. The FAA believes that this extension accounts for the time lost due to the holidays and provides the air tour operators with two additional weeks to complete any route reviews and prepare written comments. Given that the suggested route modifications were not extensive (and in fact the modification to the Dragon Corridor reverts the turnaround back to its present location), the FAA believes the additional 15-45 days requested by the air tour operators is unnecessary.

Issued in Washington, DC on January 8, 2001.
Gregory L. Michael,
Acting Director, Flight Standards Service.

[FR Doc. 01-1066 Filed 1-9-01; 8:45 am]

BILLING CODE 4910-13-M